DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 11C-26, Rockville, MD 20857; (301) 443-6593, or visit our Web site at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on September 1, 2015, through September 30, 2015. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading FOR FURTHER INFORMATION CONTACT), with a copy to HRSA addressed to Director, Division of Injury Compensation Programs, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

Dated: October 28, 2015.
James Macrae,
Acting Administrator.

List of Petitions Filed

1. Joette Maltby, Delta Junction, Alaska, Court of Federal Claims No: 15-0952V

2. Denise Zuni on behalf of D.C., Isleta, New Mexico, Court of Federal Claims No: 15-0954V

3. Cathryn Mong, Vienna, Virginia, Court of Federal Claims No: 15-0955V

4. Gene Michaelson, Minneapolis, Minnesota, Court of Federal Claims No: 15-0956V

5. Jeffrey C. Ginn, Cedar Rapids, Iowa, Court of Federal Claims No: 15-0957V

6. Nancy Thomas, Worcester, Massachusetts, Court of Federal Claims No: 15-0958V

7. Robert Petterson, East Orange, New Jersey, Court of Federal Claims No: 15-0960V

8. Laura Goldstein, Maple Grove, Minnesota, Court of Federal Claims No: 15-0963V

9. Kathy Aikin, Palmdale, California, Court of Federal Claims No: 15-0964V

10. Amy H. Moritz, New York, New York, Court of Federal Claims No: 15-0965V

11. Jaza Dashty on behalf of Sara Dashty, Murrieta, California, Court of Federal Claims No: 15-0966V

12. Mark Robinson, Norfolk, Virginia, Court of Federal Claims No: 15-0967V

13. Peggy G. Otellio, Mount Olive, North Carolina, Court of Federal Claims No: 15-0968V

14. Frank Stendal, Beaverton, Oregon, Court of Federal Claims No: 15-0969V

15. Duka Baumgartner, Baraboo, Wisconsin, Court of Federal Claims No: 15-0970V

16. Kevin White, Glen Falls, New York, Court of Federal Claims No: 15-0971V

17. Paul Mondello, Lewiston, Maine, Court of Federal Claims No: 15-0972V

18. Jacqueline Duff, Phoenix, Arizona, Court of Federal Claims No: 15-0974V

19. David Egan, San Antonio, Texas, Court of Federal Claims No: 15-0976V

20. Elisabeth Mendes, Boston, Massachusetts, Court of Federal Claims No: 15-0978V

21. Felicia Wilson, Beverly Hills, California, Court of Federal Claims No: 15-0979V

22. James Rodney Peoples, Thomaston, Georgia, Court of Federal Claims No: 15-0980V

23. Steven L. Deal, Greensboro, North Carolina, Court of Federal Claims No: 15-0981V

24. John A. Zuidema, Jr., Grand Haven, Michigan, Court of Federal Claims No: 15-0983V

25. Lisa Kreisle, Tell City, Indiana, Court of Federal Claims No: 15-0984V

26. Brittani Smith, West Plains, Missouri, Court of Federal Claims No: 15-0990V

27. Susan Bachant, Phoenix, Arizona, Court of Federal Claims No: 15-0991V

28. Sara Miller, Glenwood, Iowa, Court of Federal Claims No: 15-0992V

29. Lou Ann Hare, Mason City, Iowa, Court of Federal Claims No: 15-0993V

30. Rachel Velasquez, San Manuel, Arizona, Court of Federal Claims No: 15-0994V

31. Eugene Williams, Florence, Alabama, Court of Federal Claims No: 15-0997V

32. Lauren Barrett, White Plains, New York, Court of Federal Claims No: 15-0998V

33. Dinnia Stehle, Fort Worth, Texas, Court of Federal Claims No: 15-1001V

34. Donizetti Goncalves, Sleepy Hollow, New York, Court of Federal Claims No: 15-1002V

35. Marina Arshakyan, Queens, New York, Court of Federal Claims No: 15-1004V

36. Carol Pember, Newport News, Virginia, Court of Federal Claims No: 15-1005V

37. Linda Mangano, Brookfield, Illinois, Court of Federal Claims No: 15-1006V

38. Patricia J. Chaffin, Richmond, Virginia, Court of Federal Claims No: 15-1007V

39. Elizabeth B. Hough, Walnut Creek, California, Court of Federal Claims No: 15-1008V

40. Pedro DeJesus, Chicago, Illinois, Court of Federal Claims No: 15-1009V

41. Amrit Dhanoa, Richardson, Texas, Court of Federal Claims No: 15-1011V

42. Judith Hoechst, Littleton, Colorado, Court of Federal Claims No: 15-1012V

43. Lynsie Kamppi, Pickerington, Ohio, Court of Federal Claims No: 15-1013V

44. Charles Tice, Phoenix, Arizona, Court of Federal Claims No: 15-1014V

45. Maryellen Kottenstette and Nicholas Kottenstette on behalf of C. K., New York, New York, Court of Federal Claims No: 15-1016V

46. Christina Peri, Mineola, New York, Court of Federal Claims No: 15-1018V

47. Ruth Whatley, Fort Wayne, Indiana, Court of Federal Claims No: 15-1019V

48. Christina L. Murray, Portland, Oregon, Court of Federal Claims No: 15-1021V

49. Guadalupe Perez on behalf of B. P., Los Angeles, California, Court of Federal Claims No: 15-1023V

50. Cornelious Prysock, Columbus, Ohio, Court of Federal Claims No: 15-1024V

51. Michael Boyle, Boston, Massachusetts, Court of Federal Claims No: 15-1027V

52. Diane Peschio, Derby, New York, Court of Federal Claims No: 15-1028V

53. Joice Finn, Casa Grande, Arizona, Court of Federal Claims No: 15-1029V

54. Tanya Lynn Carter on behalf of Z. J. C., Deceased, Baraboo, Wisconsin, Court of Federal Claims No: 15-1030V

55. Sarah Shultz, Farmington, Connecticut, Court of Federal Claims No: 15-1031V

56. Susan Grigola, Chicago, Illinois, Court of Federal Claims No: 15-1032V

57. Angeline Oldfield, Herkimer, New York, Court of Federal Claims No: 15-1035V

58. Merdena Montgomery, Hazard, Kentucky, Court of Federal Claims No: 15-1037V

59. Valerie Meyers, Danvers, Massachusetts, Court of Federal Claims No: 15-1039V

60. Terrance Jacob Hale, Portland, Oregon, Court of Federal Claims No: 15-1040V

61. Sally Lessner, Phoenix, Arizona, Court of Federal Claims No: 15-1042V

62. Zachary Powers and Crystal Downing-Powers on behalf of M. D. P., Deceased, Needles, California, Court of Federal Claims No: 15-1043V

63. Richard Kaufman, New York, New York, Court of Federal Claims No: 15-1045V

64. Daina Cocciardi, Fishkill, New York, Court of Federal Claims No: 15-1046V

65. Deidre Henkel and Alex Henkel on behalf of V. H., Cedar City, Utah, Court of Federal Claims No: 15-1048V

66. Darren Osborne, Jacksonville, Florida, Court of Federal Claims No: 15-1051V

67. Sheila Seger, Midlothian, Virginia, Court of Federal Claims No: 15-1053V

68. Gerald A. Klein, Eden Valley, Minnesota, Court of Federal Claims No: 15-1054V

69. Lori Lee-Strobl, Colchester, Connecticut, Court of Federal Claims No: 15-1055V

70. Lee Roy Dixon, Springfield, Illinois, Court of Federal Claims No: 15-1056V

71. Dwight Zahringer on behalf of B. Z., Clinton Township, Michigan, Court of Federal Claims No: 15-1057V

72. Tenaya Banko, Eureka, California, Court of Federal Claims No: 15-1061V

73. Christine Harrison, Santa Fe, New Mexico, Court of Federal Claims No: 15-1064V

74. Kathy Castaneda on behalf of N. A. C., Plymouth, North Carolina, Court of Federal Claims No: 15-1066V

75. Gary French on behalf of Milton French, Riverside, Rhode Island, Court of Federal Claims No: 15-1067V

76. Judith Hasenstein, Summit, Wisconsin, Court of Federal Claims No: 15-1068V

77. Crystal Turner on behalf of C. R., Phoenix, Arizona, Court of Federal Claims No: 15-1073V

78. Melanie Mobley, Dallas, Texas, Court of Federal Claims No: 15-1074V

79. James H. Daly, Racine, Wisconsin, Court of Federal Claims No: 15-1076V

80. David J. Larson, Eden Prairie, Minnesota, Court of Federal Claims No: 15-1077V

81. Karen C. Lewis, Gainesville, Florida, Court of Federal Claims No: 15-1078V

82. Diane K. Jenkins, Greensboro, North Carolina, Court of Federal Claims No: 15-1079V

83. Alisha N. Pankiw, Indianapolis, Indiana, Court of Federal Claims No: 15-1082V

84. Rebecca Swanick on behalf of J. S., Beverly, Massachusetts, Court of Federal Claims No: 15-1083V

85. Steven Zebofsky, Lake Worth, Florida, Court of Federal Claims No: 15-1084V

86. Carol Ennis, Raymond, New Hampshire, Court of Federal Claims No: 15-1085V

87. Elizabeth Muehlbacher, Dallas, Texas, Court of Federal Claims No: 15-1086V

88. Michelle Schmidt, Des Plaines, Illinois, Court of Federal Claims No: 15-1089V

89. Loren Neddeau, Pawcatuck, Connecticut, Court of Federal Claims No: 15-1092V

90. Anthony Nelson, Philadelphia, Pennsylvania, Court of Federal Claims No: 15-1093V

91. Bethany Zellmer-Cesnik, Philadelphia, Pennsylvania, Court of Federal Claims No: 15-1094V

92. Donna Scamby Powers, Chalfont, Pennsylvania, Court of Federal Claims No: 15-1096V

93. Curtis F. Blankenship, Greensboro, North Carolina, Court of Federal Claims No: 15-1097V

94. Carletta Bober, Dallas, Texas, Court of Federal Claims No: 15-1098V

95. Dalton Truax, III, New Orleans, Louisiana, Court of Federal Claims No: 15-1099V

[FR Doc. 2015-28101 Filed 11-3-15; 8:45 am]

BILLING CODE 4165-15-P